NUCLEAR REGULATORY COMMISSION

[Docket No. 50-029]

Yankee Atomic Power Company, Yankee Atomic Power Station (Rowe); Notice of Receipt and Availability for Comment of License Termination Plan

The Nuclear Regulatory Commission (NRC) is in receipt of and is making available for public inspection and comment the License Termination Plan (LTP) for the Yankee (Rowe) Atomic Power Station (Yankee-Rowe) located in Franklin County, Massachusetts.

Yankee Atomic Electric Company (YAEC, or the licensee) informed the NRC by letter dated February 27, 1992, that Yankee-Rowe was permanently shut down and that decommissioning would commence. YAEC submitted a decommission plan on December 20, 1993, which included an environmental report. The decommissioning plan was approved by Order on February 14, 1995, and the plant is undergoing dismantlement under 10 CFR 50.59.

In accordance with 10 CFR 50.82(a)(9), all power reactor licensees must submit an application for termination of their license. The application for termination of license must be accompanied or preceded by an LTP to be submitted for NRC approval. If found acceptable by the NRC staff, the LTP is approved by license amendment, subject to such conditions and limitations as the NRC staff deems appropriate and necessary. YAEC submitted the proposed LTP for Yankee-Rowe by applications dated November 24, 2003, December 10, 2003, December 16, 2003, January 19, 2004, January 20, 2004, February 2, 2004, February 10, 2004, and March 4, 2004. In accordance with 10 CFR 20.1405 and 10 CFR 50.82(a)(9)(iii), the NRC is providing notice to individuals in the vicinity of the site that the NRC is in receipt of the Yankee-Rowe LTP, and will accept comments from affected parties.

An electronic version of the Yankee-Rowe LTP may be viewed through the NRC ADAMS system at accession numbers ML033450398, ML033530147, ML041110261, ML040280024, ML040280028, ML040280031, ML040280036, ML040280140, ML040330777, ML040420388, ML041100639, and ML040690034, or at the Yankee Atomic Power Company site closure Web site, http://www.yankee.com/siteclosure/index.htm.

Comments regarding the Yankee-Rowe LTP may be submitted in writing and addressed to Mr. John B. Hickman, Mail Stop T-7-F27, Decommissioning Directorate, Division of Waste Management and Environmental Protection, Office of Nuclear Material Safety and Safeguards, U.S. Nuclear Regulatory Commission, Washington, DC 20555-0001, telephone (301) 415-3017 or e-mail jbh@nrc.gov.

Dated in Rockville, Maryland, this 22nd day of April, 2004.
For the Nuclear Regulatory Commission.
Claudia Craig,
Chief, Reactor Decommissioning Section, Decommissioning Directorate, Division of Waste Management and Environmental Protection, Office of Nuclear Material Safety and Safeguards.

[FR Doc. E4-997 Filed 5-3-04; 8:45 am]

BILLING CODE 7590-01-P